AGENCY FOR INTERNATIONAL DEVELOPMENT

Notice of Meeting

Pursuant to the Federal Advisory Committee Act, notice is hereby given of a meeting of the Advisory Committee on Voluntary Foreign Aid (ACVFA).

Date: Wednesday, October 19, 2005 (9 a.m. to 12:30 p.m.)

Location: The Ronald Reagan Building and International Trade Center, 1300 Pennsylvania Avenue, NW., Atrium Ballroom, Washington, DC 20005.

Sudan: Andrew Natsios, Administrator, has been invited to address the ACVFA on implementation of the comprehensive peace agreement in Sudan, reconstruction of the South, and the ongoing crisis in Darfur.

USAID's New Office of Military Affairs: Michael Hess, Assistant Administrator for the Bureau for Democracy, Conflict, and Humanitarian Assistance will brief the ACVFA on the newly constituted Office of Military Affairs and its coordinating role with the Department of Defense, the State Department's Office of the Coordinator for Reconstruction and Stabilization, and USAID's partners.

Malaria Initiative and Avian Influenza Update: Kent Hill, Acting Assistant Administrator for USAID's Bureau for Global Health has been invited to discuss the President's initiative on malaria and recent steps to address avian influenza.

The meeting is free and open to the public. Persons wishing to attend the meeting can register online at http://www.usaid.gov/about_usaid/acvfa or e-mail their name to Wendy Drake at wendy@websterconsulting.com or Jocelyn Rowe at jrowe@usaid.gov or 202-712-4002.

Dated: September 28, 2005.
Jocelyn M. Rowe,
Executive Director, Advisory Committee on Voluntary, Foreign Aid (ACVFA), U.S. Agency for International Development.

[FR Doc. 05-19796 Filed 10-3-05; 8:45 am]

BILLING CODE 6116-01-P